DEPARTMENT OF TRANSPORTATION

National Highway Traffic Safety Administration

[Docket No. NHTSA—2019-0027; Notice 3]

Withdrawal of Notice for State Notification to Consumers of Motor Vehicle Recall Status

AGENCY: National Highway Traffic Safety Administration (NHTSA), Department of Transportation.

ACTION: Notice withdrawal.

On July 25, 2019, NHTSA inadvertently published, at 84 FR 35927, a notice seeking comments on the proposed burden estimates related to a proposed funding opportunity regarding state notification to consumers of motor vehicle recall status. NHTSA is withdrawing the July 25, 2019 notice.

Authority: The Paperwork Reduction Act of 1995; 44 U.S.C. Chapter 35, as amended; and 49 CFR 1:48

Stephen A. Ridella,
Director, Office of Defects Investigation Enforcement.

[FR Doc. 2019-17058 Filed 8-8-19; 8:45 am]

BILLING CODE 4910-59-P